DEPARTMENT OF HOUSING AND URBAN DEVELOPMENT

24 CFR Part 1005

[Docket No. FR-5593-C-03]

RIN 2577-AD01

Strengthening the Section 184 Indian Housing Loan Guarantee Program; Correction

AGENCY: Office of the Assistant Secretary for Public and Indian Housing, U.S. Department of Housing and Urban Development (HUD).

ACTION: Final rule; correction.

SUMMARY: The Department of the Housing and Urban Development (HUD) is correcting a final rule entitled, “Strengthening the Section 184 Indian Housing Loan Guarantee Program” that published in the Federal Register on March 20, 2024.

DATES: Effective June 18, 2024.

FOR FURTHER INFORMATION CONTACT: With respect to this technical correction, contact Aaron Santa Anna, Associate General Counsel for Legislation and Regulations, Department of Housing and Urban Development, 451 7th Street SW, Room 10238, Washington, DC 20410; telephone number 202-708-1793 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: On March 20, 2024 (89 FR 20032) (FR Doc. 2024-05515), HUD published a final rule that amends its regulations governing the Section 184 Indian Housing Loan Guarantee Program (Section 184 Program). The rule clarifies the rules governing Tribal participation in the Section 184 Program by establishing underwriting requirements, closing and endorsement processes, and stronger and clearer servicing requirements. The rule also strengthens the Section 184 Program by clarifying rules for stakeholders, minimizing potential risk, and increasing program participation by financial institutions.

In reviewing the March 20, 2024, final rule, HUD identified inadvertent errors in §§ 1005.749, 1005.759, and 1005.805. Specifically, in § 1005.749 HUD failed to designate a paragraph (c)(6). Section 1005.759 incorrectly designated two paragraphs as paragraph (b). Finally, § 1005.805 failed to designate a paragraph (b)(4)(v). This document corrects these errors.

Correction

In FR Doc. 2024-05515, published March 20, 2024, at 89 FR 20032, the following corrections are made:

§ 1005.749 [Corrected]

1. On page 20082, in the second column, in § 1005.749(c), paragraphs (7) and (8) are redesignated as paragraphs (6) and (7), respectively.

§ 1005.759 [Corrected]

2. On page 20086, in the third column, in § 1005.759 the second paragraph (b) is redesignated as paragraph (c) and paragraphs (c) and (d) are redesignated as paragraphs (d) and (e), respectively.

§ 1005.805 [Corrected]

3. On page 20088, in the third column, in § 1005.805(b)(4), paragraphs (vi) and (vii) are redesignated as paragraphs (v) and (vi).

Aaron Santa Anna,
Associate General Counsel, Office of Legislation and Regulations.

[FR Doc. 2024-06676 Filed 3-28-24; 8:45 am]

BILLING CODE 4210-67-P